DEPARTMENT OF THE INTERIOR

National Park Service

National Register of Historic Places; Notification of Pending Nominations

Nominations for the following properties being considered for listing in the National Register were received by the National Park Service before September 29, 2001. Pursuant to section 60.13 of 36 CFR part 60 written comments concerning the significance of these properties under the National Register criteria for evaluation may be forwarded to the National Register, National Park Service, 1849 C St. NW., NC400, Washington, DC 20240. Written comments should be submitted by November 9, 2001.

Beth L. Savage,
Acting Keeper of the National Register Of Historic Places.

CALIFORNIA

San Francisco County

New Mission Theater, 2550 Mission St., San Francisco, 01001206

COLORADO

Montezuma County

Mitchell Springs Archeological Site, (Great Pueblo Period of the McElmo Drainage Unit MPS) 7755 Road 25, Cortez, 01001207

FLORIDA

Polk County

Baynard, Ephriam M., House, 208 W. Lake Ave., Auburndale, 01001208

LOUISIANA

East Feliciana Parish

Heyman—Stewart House, 10943 Bank St., Clinton, 01001211

Ouachita Parish

Key—Mize House, 118 Copley St., West Monroe, 01001212

St. Mary Parish

Lancon, Hilaire, House, 3934 Irish Bend Rd., Franklin, 01001210

Vernon Parish

Ferguson, G.R., Sr. House, 406 N. 6th St., Leesville, 01001209

MARYLAND

Baltimore Independent City

Franklintown Historic District, 5100-5201 N. Franklintown Rd.;1707-1809 N. Forest Park Ave., 5100 Hamilton Ave., 5100 Fredwall Ave., Baltimore (Independent City), 01001214

South Central Avenue Historic District, Approx. 8 blks. centering Central Ave. Bet. Pratt and Fleet Sts., Baltimore, 01001213

MASSACHUSETTS

Middlesex County

West Main Street Historic District, West Main, Pleasant, Winthrop and Witherbee Sts., Marlborough, 01001215

MICHIGAN

Allegan County

Navigation Structures at Saugatuck Harbor, West End of Riverside Dr., Saugatuck, 01001216

SOUTH DAKOTA

Brookings County

Sexauer Seed Company Historic District, Roughly bounded by Main Ave., DM & E RR tracks, 2nd St., and 6th Ave., Brookings, 01001225

Clay County

Prentis Park, (Federal Relief Construction in South Dakota MPS) Plum and Main Sts., Vermillion, 01001218

South Dakota Department of Trans. Br. No. 14-130-176, (Historic Bridges in South Dakota MPS) Local Rd. over Vermillion R., Vermillion, 01001220

South Dakota Department of Trans. Br. No. 14-133-170, (Historic Bridges in South Dakota MPS) Local Rd. over Vermillion R., Vermillion, 01001222

Codington County

Jones, Mabel and David, House, 425 N Park, Watertown, 01001221

Dewey County

Forest City Bridge, (Historic Bridges in South Dakota MPS) US trunk 212, La Plant, 01001217

Minnehaha County

Berg and Estensen Store, 110 Zeliff Ave., Sherman, 01001224

Moody County

Ward Hall, Main St., Ward, 01001223

Spink County

Spink County Courthouse, (County Courthouses of South Dakota MPS) 210 E. Seventh Ave., Redfield, 01001219

VERMONT

Chittenden County

Butler, Rosell, House, 6 Carmichael St., Essex, 01001226

Washington County

Waitsfield Common Historic District, Joslin Hill Rd, North Rd., East Rd., and Common Rd., Waitsfield, 01001227

Windsor County

Jericho Rural Historic District, Jericho St., Jericho Rd., Wallace Rd., Sugartop Rd., Joshua Rd., Hartford, 01001228

A request for Removal has made for the following resource:

SOUTH DAKOTA

Lawrence County

Selbie Building, 1101 Meade St., Whitewood 86003013

[FR Doc. 01-26888 Filed 10-24-01; 8:45 am]

BILLING CODE 4310-70-P